DEPARTMENT OF COMMERCE

International Trade Administration

[C-489-819]

Steel Concrete Reinforcing Bar From the Republic of Türkiye: Final Results of Countervailing Duty Administrative Review; 2022

AGENCY: Enforcement and Compliance, International Trade Administration, Department of Commerce.

SUMMARY: The U.S. Department of Commerce (Commerce) determines countervailable subsidies were provided to producers and exporters of steel concrete reinforcing bar (rebar) from the Republic of Türkiye (Türkiye) during the period of review (POR) January 1, 2022, through December 31, 2022.

DATES: Applicable September 12, 2025.

FOR FURTHER INFORMATION CONTACT: Ajay K. Menon, AD/CVD Operations, Office IX, Enforcement and Compliance, International Trade Administration, U.S. Department of Commerce, 1401 Constitution Avenue NW, Washington, DC 20230; telephone: (202) 482-0208.

SUPPLEMENTARY INFORMATION:

Background

On December 13, 2024, Commerce published the Preliminary Results of this administrative review and invited interested parties to comment.¹ On June 6, 2025, we extended the deadline for these final results to no later than September 8, 2025.² For a complete description of the events that occurred since the Preliminary Results, see the Issues and Decision Memorandum.³

¹ See Steel Concrete Reinforcing Bar from the Republic of Türkiye: Preliminary Results and Rescission, in Part, of Countervailing Duty Administrative Review; 2022, 89 FR 100957 (December 13, 2024) (Preliminary Results), and accompanying Preliminary Decision Memorandum.

² See Memorandum, “Extension of Deadline for Final Results of Countervailing Duty Administrative Review,” dated June 6, 2025.

³ See Memorandum, “Issues and Decision Memorandum for the Final Results of the Countervailing Duty Administrative Review of Steel Concrete Reinforcing Bar from the Republic of Türkiye; 2022,” dated concurrently with, and hereby adopted by, this notice (Issues and Decision Memorandum).

Scope of the Order ⁴

⁴ See Steel Concrete Reinforcing Bar from the Republic of Turkey: Countervailing Duty Order, 79 FR 65926 (November 6, 2014) (Order).

The merchandise covered by this Order is rebar from Türkiye. For a complete description of the scope of this Order, see the Issues and Decision Memorandum.

Analysis of Comments Received

All issues raised in the respondents' case briefs and rebuttal briefs are addressed in the Issues and Decision Memorandum accompanying this notice. A list of the issues addressed is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Methodology

Commerce conducted this review in accordance with section 751(a)(1)(A) of the Act. For each of the subsidy programs found countervailable, we find that there is a subsidy, i.e., a government-provided financial contribution that gives rise to a benefit to the recipient, and that the subsidy is specific.⁵ For a full description of the methodology underlying all of Commerce's conclusions, see the Issues and Decision Memorandum.

⁵ See sections 771(5)(B) and (D) of the Act regarding financial contribution; section 771(5)(E) of the Act regarding benefit; and section 771(5A) of the Act regarding specificity.

Changes Since the Preliminary Results

Based on comments received from interested parties, we made certain changes to the subsidy rate calculations for Icdas Celik Enerji Tersane ve Ulasim Sanayi A.S. (Icdas) and Kaptan Demir Celik Endustrisi ve Ticaret A.S. (Kaptan) from the Preliminary Results.⁶ For a discussion of the issues, see the Issues and Decision Memorandum.

⁶ For a full description of these changes, see Issues and Decision Memorandum.

Final Results of Review

We determine that, for the period January 1, 2022, through December 31, 2022, the following total net countervailable subsidy rates exist:

Producer/exporter | Subsidy rate (percent ad valorem)
Icdas Celik Enerji Tersane ve Ulasim Sanayi A.S.⁷ | * 0.04
Kaptan Demir Celik Endustrisi ve Ticaret A.S.⁸ | 2.43
Colakoglu Metalurji A.S | 2.43
* de minimis.

Disclosure

⁷ Commerce has found the following companies to be cross-owned with Icdas: Ankas Hayvancilik Gida Tarim San. ve Tic. A.S.; Icdas Diş Ticaret A.S.; Mardas Marmara Deniz Isletmeciliği A.S.; Oraysan Insaat Sanayi ve Ticaret A.S.; İçdaş Elektrik Enerjisi Üretim ve Yatirim A.Ş.; and Icdas Elektrik Enerjisi Toptan Satiş İthalat.

⁸ Commerce has found the following companies to be cross-owned with Kaptan: Martas Marmara Ereğlisi Liman Tesisleri A.S.; Kaptan Geri Dönüşüm Teknolojileri Tic. A.S.; and Nur Gemicilik ve Tic. A.S.

Commerce intends to disclose its calculations performed in connection with the final results of review to interested parties within five days of public announcement or, if there is no public announcement, within five days of the date of publication of the notice of final results in the Federal Register, in accordance with 19 CFR 351.224(b).

Assessment Rates

Pursuant to section 751(a)(2)(C) of the Act and 19 CFR 351.212(b)(2), Commerce has determined, and U.S. Customs and Border Protection (CBP) shall assess, countervailing duties on all appropriate entries of subject merchandise in accordance with the final results of this review, for the above-listed companies at the applicable ad valorem assessment rates listed. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Rates

In accordance with section 751(a)(1) of the Act, Commerce intends to instruct CBP to collect cash deposits of estimated countervailing duties in the amounts shown for the companies listed above for shipments of the subject merchandise entered, or withdrawn from warehouse for consumption on or after the date of publication of the final results of this administrative review. For all non-reviewed firms, we will instruct CBP to continue to collect cash deposits of estimated countervailing duties at the most recent company-specific or all-others rate applicable to the company, as appropriate. These cash deposits, effective upon the publication of the final results of this review, shall remain in effect until further notice.

Administrative Protective Order

This notice also serves as a final reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a sanctionable violation.

Notification to Interested Parties

These final results are issued and published in accordance with sections 751(a)(1) and 777(i)(1) of the Act, and 19 CFR 351.221(b)(5).

Dated: September 8, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Subsidies Valuation

V. Analysis of Programs

VI. Discussion of the Issues

Comment 1: Whether to Average the Benchmarks Submitted by Icdas and the Rebar Trade Action Committee to Measure the Benefit for Natural Gas for Less Than Adequate Remuneration (LTAR)

Comment 2: Whether to Base the Benchmark for Land for LTAR under Law 5084 on the Cushman & Wakefield Report or the Colliers Report

Comment 3: Whether to Find Exemptions from Banking and Insurance Transaction Tax on Foreign Exchange Transactions Program Countervailable

Comment 4: Whether to Revise Kaptan's Benefit Calculation for the Assistance to Offset Costs Related to Antidumping Duty (AD)/CVD Investigations Program

Comment 5: Whether to Rely on Adverse Facts Available (AFA) To Determine the Benefit Received Under the Assistance to Offset Costs Related to AD/CVD Investigations Program

Comment 6: Whether to Countervail the Government of Türkiye's (GOT's) Land Leases to Icdas, Icdas' Cross-Owned Affiliate, Mardas Marmara Deniz Isletmeciliği A.S., and Kaptan's Cross-Owned Affiliate, Martas Marmara Ereğlisi Liman Tesisleri A.S.

Comment 7: Whether to Find the Unemployment Insurance Premium Support Under Law 4447 Program and Social Security Premium Support Act No. 5510 Program Countervailable Based on AFA

Comment 8: Whether to Recalculate the Benefit Icdas Received Under the Renewable Energy Sources Support Mechanism Program

VII. Recommendation

[FR Doc. 2025-17681 Filed 9-11-25; 8:45 am]

BILLING CODE 3510-DS-P